DEPARTMENT OF ENERGY

National Energy Technology Laboratory; Notice of Availability of a Financial Assistance Solicitation

AGENCY: National energy technology laboratory (NETL), Department of Energy (DOE).

ACTION: Notice of availability of a financial assistance solicitation.

SUMMARY: Notice is hereby given of the intent to issue Financial Assistance Solicitation No. DE-PS26-01NT40864 entitled Advanced University Reciprocating Engine Program. The DOE/NETL is seeking applications on behalf of the Office of Power Technologies in DOE's Office of Energy Efficiency and Renewable Energy, for support of projects that are consistent with the goals of the Advanced Natural Gas Reciprocating Engine Program. This solicitation, restricted to United States (US) universities and colleges, requests applications that will have a significant impact in achieving the program goals stated below. In order to attain these goals, innovative and novel concepts need to be developed and current obstacles need to be overcome.

DATES: The solicitation will be available on the DOE/NETL's Internet address at http://www.netl.doe.gov/business on or about April 13, 2001. All requests for explanation or interpretation of any part of the solicitation shall be submitted in writing and must be received by the Contract Specialist via E-mail or in writing not later than 4 p.m. local prevailing time on May 4, 2001. The Government reserves the right not to respond to questions submitted after this date, nor to respond to questions submitted by telephone or in person at any time.

FOR FURTHER INFORMATION CONTACT: Debra A. Duncan, U.S. Department of Energy, National Energy Technology Laboratory, P.O. Box 10940, MS 921-107, E-mail Address: duncan@netl.doe.gov, Telephone Number: 412-386-6137.

SUPPLEMENTARY INFORMATION: The DOE supports the development of promising advanced power technologies that will improve energy efficiency, meet or exceed emissions requirements, enhance durability, and lower the costs of installation and operation.

The DOE is encouraging greater focus on a portfolio of advanced distributed energy systems. Current technology development efforts include industrial turbines, microturbines, reciprocating engines, and fuel cell technologies for use in industrial, commercial, institutional and residential applications. This solicitation focuses on development of technologies that will enhance the performance of advanced natural gas reciprocating engines. Previous solicitations have already focused on reciprocating engine research restricted to manufacturers and national laboratories. US manufacturers and suppliers of reciprocating engines and the Federal government are partnering to develop the next generation of stationary natural gas internal combustion engines. These advanced systems will provide significant benefits to the nation and will position domestic engine manufacturers to better compete in what is becoming a more global market with significant opportunities in domestic power generation markets and emerging international markets. The Advanced Natural Gas Reciprocating Engine Program goals are:

1. Energy Efficiency: 50% electrical efficiency. Current spark-ignition natural gas engines range in efficiency from 34-38%. Application of high temperature materials, engine sensors and controls, improved combustion practices, and other advances may be able to attain efficiencies of 50%.

2. Environmental Emissions: NOX target of 0.1 grams per horsepower-hour. Currently, the best domestic emission levels are 1.0 grams per horsepower-hour. In order to reduce NOX emissions by an order of magnitude advances in combustion technology, sensors and controls, and emission reduction systems are critical to minimize environmental impacts.

3. Cost: Operating and maintenance 10% below today's costs for modern engines. Attaining this goal will result in $50 million savings to the nation between 2005—2010.

To achieve the project objectives, DOE/NETL through the Office of Power Technologies' Advanced Natural Gas Reciprocating Engine Program, is requesting applications under the following two (2) topic areas:

Technical Topic No. 1 Ignition System Improvements

Background/Application: Ignition systems with the best available technology today often do not meet customer increasing expectations for longer life and lower maintenance costs. Technologies now available are the result of high speed automotive engine applications. These technologies are not necessarily designed for the load and pressure effects that current medium speed engines require. The need for better ignition systems designs will increase significantly as compression ratios are driven higher to achieve higher engine efficiency, and as engines are operated leaner in order to achieved reduce levels of NOX emissions.

Technical and Commercial Barriers: Technical barriers include limited research on high energy, long life ignition systems accompanied by low volume production capability of the supplier base for these types of systems.

Technology Breakthrough(s) Needed: Fundamental research is needed to understand ignition system demands for medium speed (1200-1800 revolutions per minute) natural gas engines, meeting customer expectations for life and maintenance costs. Also, research is needed at understanding ignition system dynamics in these engines, especially at the point of ignition during the beginning of the power cycle. As future designs will require increased cylinder pressures and rotational speeds, this research will be especially important as a model for continued developments in ignition systems.

Technical Topic No. 2 Parasitic Loss Reduction

Background/Application: Currently, high-speed engines are believed to have lower frictional losses than medium speed (1200-1800 revolutions per minute) larger bore natural gas engines. Very little known work has been done to lower these losses in medium speed engines. Improvements in this area can be translated directly into lower fuel consumption without suffering a corresponding increase in NOX emissions.

Technical and Commercial Barriers: Due to the relatively low volumes of these engines, focus has mainly been placed on high-speed engines. Analytical models to do this work need to be refined.

Technology Breakthrough(s) Needed: Research is needed to address current medium speed large bore natural gas parasitic losses. Initial focus could be on the piston, piston ring, and cylinder liner interface, although all areas of the engine system could be investigated. Lubricity, materials, clearances, and temperatures are areas of concern as well. Finally, attention should be given to maintaining the traditional long lives that these engines are expected to provide. Any proposed research concerning lubrication should focus on currently available oils or oil additives.

Pursuant to 10 CFR 600.6(b) eligibility for award is restricted to US universities and colleges. Only universities, colleges, or university-affiliated research institutes located in the US and its territories, including the Commonwealth of Puerto Rico and the Virgin Islands, may submit applications for consideration under this Program Solicitation. Submissions from university-affiliated research institutes must be made through the university and the university, not the university-affiliated research institute, will be the award recipient.

DOE anticipates multiple cooperative agreement awards resulting from this solicitation. In accordance with 10 CFR 600.30, the DOE has determined that a minimum cost share of 20% will be required.

Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on April 11, 2001.
Raymond R. Jarr,
Acting Deputy Director, Acquisition and Assistance Division.

[FR Doc. 01-9703 Filed 4-18-01; 8:45 am]

BILLING CODE 6450-01-P